DEPARTMENT OF ENERGY

[Docket No. 24-87-LNG]

Gato Negro Permitium Dos, S.A.P.I. de C.V.; Application for Long-Term Authorization To Re-Export U.S.-Sourced Natural Gas in the Form of Liquefied Natural Gas From Mexico to Non-Free Trade Agreement Countries

AGENCY: Office of Fossil Energy and Carbon Management, Department of Energy.

ACTION: Notice of application.

SUMMARY: The Office of Fossil Energy and Carbon Management (FECM) of the Department of Energy (DOE) gives notice (Notice) of receipt of an application (Application), filed on August 21, 2024, by Gato Negro Permitium Dos, S.A.P.I. de C.V. (Gato Dos). As relevant here, Gato Dos requests long-term authorization to re-export U.S.-sourced natural gas in the form of liquefied natural gas (LNG) to non-free trade agreement countries in a volume equivalent to 0.556 billion cubic feet per day (Bcf/d). Gato Dos seeks to re-export this LNG by vessel from the Gato Negro Manzanillo LNG Plant (Manzanillo Plant), under development in the State of Colima, Mexico. Gato Dos filed the Application under the Natural Gas Act (NGA).

DATES: Protests, motions to intervene, or notices of intervention, as applicable, requests for additional procedures, and written comments are to be filed as detailed in the Public Comment Procedures section no later than 4:30 p.m., Eastern time, November 25, 2024.

ADDRESSES:

Electronic Filing by Email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76) Office of the Assistant General Counsel for Energy Delivery and Resilience, Forrestal Building, Room 6D-033, 1000 Independence Avenue SW, Washington, DC 20585, (240) 780-1691, cassandra.bernstein@hq.doe.gov

SUPPLEMENTARY INFORMATION: As relevant here, Gato Dos requests long-term authorization to re-export U.S.-sourced natural gas following liquefaction at the Manzanillo Plant in the State of Colima, Mexico, which is being developed by Gato Dos's affiliate, Gato Negro Manzanillo S.A.P.I., de C.V. Gato Dos seeks to re-export this LNG in a volume equivalent to 0.556 Bcf/d of natural gas from the Manzanillo Plant to countries with which the United States has not entered into a free trade agreement requiring national treatment for trade in natural gas and with which trade is not prohibited by U.S. law or policy (non-FTA countries) under section 3(a) of the NGA.¹

¹ 15 U.S.C. 717b(a). As discussed in the Application, on May 10, 2024, an affiliate of Gato Dos, Gato Negro Permitium Uno, S.A.P.I. de C.V. (Gato Uno), filed an application with DOE in Docket No. 24-43-LNG. Gato Uno requests long-term authorization to export U.S.-sourced natural gas to Mexico by pipeline, and after liquefaction in Mexico at the Manzanillo Plant, to re-export the U.S.-sourced natural gas as LNG to FTA countries. Gato Dos states that Gato Uno's FTA application involves the same site and liquefaction capacity to be used by Gato Dos. Gato Uno's FTA application is currently pending, and DOE will review it separately under NGA section 3(c), 15 U.S.C. 717b(c).

Gato Dos seeks this authorization on its own behalf and as agent for other parties that hold title to the LNG at the time of export. Gato Dos requests the authorization for a term beginning on the date of first export and extending through December 31, 2050.

Additional details can be found in Gato Dos's Application, posted on the DOE website at https://www.energy.gov/sites/default/files/2024-08/Gato%20Permitium%20Dos%20LNG%20Application-non-FTA%20Application%20%288-7-24%29.pdf.

DOE Evaluation

In reviewing Gato Dos's Application, DOE will consider any issues required by law or policy under NGA section 3(a), DOE's regulations, and any other documents deemed appropriate. Parties that may oppose this Application should address these issues and documents in their comments and/or protests, as well as other issues deemed relevant to the Application.

The National Environmental Policy Act (NEPA), 42 U.S.C. 4321 et seq., requires DOE to give appropriate consideration to the environmental effects of its proposed decisions. No final decision will be issued in this proceeding before DOE has met its environmental responsibilities.

Public Comment Procedures

In response to this Notice, any person may file a protest, comments, a motion to intervene or notice of intervention, or request for additional procedures, as applicable. Interested parties will be provided 60 days from the date of publication of this Notice in which to submit comments, protests, motions to intervene, or notices of intervention.

Any person wishing to become a party to this proceeding evaluating the Application must file a motion to intervene or notice of intervention. The filing of comments or a protest with respect to the Application will not serve to make the commenter or protestant a party to this proceeding, although protests and comments received from persons who are not parties will be considered in determining the appropriate action to be taken on the Application. All protests, comments, motions to intervene, notices of intervention, or requests for additional procedures must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 24-87-LNG” or “Gato Negro Permitium Dos Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Notice, and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on September 19, 2024.
Amy R. Sweeney,
Director, Office of Regulation, Analysis, and Engagement, Office of Resource Sustainability.

[FR Doc. 2024-21924 Filed 9-24-24; 8:45 am]

BILLING CODE 6450-01-P